NATIONAL AERONAUTICS AND SPACE ADMINISTRATION

[Notice (12-068)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 18, 2012.

FOR FURTHER INFORMATION CONTACT: James J. McGroary, Patent Counsel, Marshall Space Flight Center, Mail Code LS01, Huntsville, AL 35812; telephone (256) 544-0013; fax (256) 544-0258.

SUPPLEMENTARY INFORMATION:

NASA Case No.: MFS-32757-1: Thermal-Powered Reciprocating-Force Motor;

NASA Case No.: MFS-31559-1-CON: Thermal Stir Welder;

NASA Case No.: MFS-32871-1: Rapidly Deployed Modular Telemetry System;

NASA Case No.: MFS-32889-1: Intelligent Flow Control Valve;

NASA Case No.: MFS-32924-1: Partial Automated Alignment & Integration System;

NASA Case No.: MFS-32940-1: Weld Nugget Temperature Control in Thermal Stir Welding;

NASA Case No.: MFS-31559-2-DIV: Thermal Stir Welding Process;

NASA Case No.: MFS-32611-1: Mass Gauging Demonstrator for Any Gravitational Conditions;

NASA Case No.: MFS-32817-1: Dynamically Variable Spot Size Laser System;

NASA Case No.: MFS-32859-1: Pulsed Ultrasonic Stir Welding System;

NASA Case No.: MFS-32655-1: Aerospace Laser Ignition/Ablation Variable High Precision Thruster;

NASA Case No.: MFS-32841-1: System for Configuring Modular Telemetry Transponders;

NASA Case No.: MFS-32667-1: System of Extraction of Volatiles from Soil Using Microwave Processes;

NASA Case No.: MFS-32809-1: Adaptable Transponder for Multiple Telemetry Systems;

NASA Case No.: MFS-32831-1: Physicochemical-Managed Killing of Penicillin-Resistant Static and Growing Gram-Positive and Gram-Negative Vegetative Bacteria;

NASA Case No.: MFS-32857-1: Space Vehicle Valve System;

NASA Case No.: MFS-32903-1: Fluid Harmonic Absorber;

NASA Case No.: MFS-32895-1: Ultrasonically-Assisted Thermal Stir Welding System;

NASA Case No.: MFS-32840-1: Non-collinear Valve Actuator;

NASA Case No.: MFS-32865-4: Airfoil-Shaped Fluid Flow Tool for Use in Making Differential;

NASA Case No.: MFS-32797-1: Optical Multi-Species Gas Monitoring Sensor and System;

NASA Case No.: MFS-32826-1: Safety Drain System for Fluid Reservoir;

NASA Case No.: MFS-32916-1: Improved Impact Toughness and Heat Treatment for Cast Aluminum;

NASA Case No.: MFS-32719-1: System for In-Situ Detection of Plant Exposure to Trichloroethylene (TCE);

NASA Case No.: MFS-32737-1: Hermetic Seal Leak Detection Apparatus;

NASA Case No.: MFS-32865-3: Star-Shaped Fluid Flow Tool for Use in Making Differential Measurements;

NASA Case No.: MFS-32865-1: Self-Contained Compressed-Flow Generation Device for Use in Making Differential Measurements;

NASA Case No.: MFS-32912-1: Radio Frequency Power Load and Associated Method;

NASA Case No.: MFS-32830-1: Chemicals Contained in Boundary Layer-Targeted Emulsions;

NASA Case No.: MFS-32777-1: Systems and Methods for the Electrodeposition of a Nickel-Cobalt Alloy;

NASA Case No.: MFS-32865-2: Self-Contained Tubular Compressed-Flow Generation Device for Use in Making Differential Measurements.

Sumara M. Thompson-King,
Acting Deputy General Counsel.

[FR Doc. 2012-22853 Filed 9-17-12; 8:45 am]

BILLING CODE P